DEPARTMENT OF TRANSPORTATION

Federal Aviation Administration

14 CFR Part 73

[Docket No. FAA-2007-28633; Airspace Docket No. 07-ASW-7]

RIN 2120-AA66

Establishment of Restricted Area R-3405; Sullivan, IN

AGENCY: Federal Aviation Administration (FAA), DOT.

ACTION: Final rule.

SUMMARY: This action establishes Restricted Area R-3405 at Sullivan, IN, to support deep-water electronic, ordnance and pyrotechnics testing by the U.S. Navy. The FAA is taking this action to protect nonparticipating aircraft from a tethered aerostat balloon used to deploy radar, electro-optic, camera, and other sensor packages at Naval Support Activity (NSA) Crane's Glendora Lake Test Facility.

DATES: Effective date 0901 UTC, September 23, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On Friday, August 31, 2007, the FAA published in the Federal Register a notice of proposed rulemaking (NPRM) to establish restricted Area R-3405 near Sullivan, IN (72 FR 50300). Interested parties were invited to participate in this rulemaking effort by submitting written comments on the proposal. No comments were received. The U.S. Navy lowered the proposed ceiling from 2,000 feet MSL to 1,600 feet MSL after a FAA study found that the proposed establishment of restricted area R-3405, when active, would impact aircraft operations at Sullivan Country Airport, located near the test facility. With the exception of editorial changes, and the change described above, this rule is the same as that proposed in the NPRM.

The Rule

This action amends Title 14 Code of Federal Regulations (14 CFR) part 73 by establishing restricted area R-3405 over an area near Sullivan, IN. This restricted area covers less than 1 square nautical mile and extends from the surface up to and including 1,600 feet MSL, and will ensure flight safety by separating non-participating aircraft from tethered aerostat balloon operations conducted by the NSA Crane Lake Glendora Test Facility.

Section 73.34 of Title 14 CFR part 73 was republished in FAA Order 7400.8S, effective February 16, 2010.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

This rulemaking is promulgated under the authority described in Subtitle VII, Part A, Subpart I, Section 40103. Under that section, the FAA is charged with prescribing regulations to assign the use of the airspace necessary to ensure the safety of aircraft and the efficient use of airspace. This regulation is within the scope of that authority as it establishes restricted airspace at Sullivan, IN.

Environmental Review

Pursuant to Section 102(2) of the National Environmental Policy Act of 1969 (NEPA), the Council on Environmental Quality (CEQ) regulations implementing NEPA (40 CFR Parts 1500-1508), and other applicable law, the U.S. Navy prepared and published a Final Environmental Assessment (FEA) in June 2008 that analyzed the potential for environmental impacts associated with the proposed NSA Crane and Naval Surface Warfare Center (NSWC) Glendora Lake Test Facility requirements. In July 2009, the U.S. Navy issued a Finding of No Significant Impact (FONSI) based on the results of the FEA. In accordance with applicable CEQ regulations (40 CFR 1501.6) and the Memorandum of Understanding (MOU) between FAA and Department of Defense (DOD) dated October 2005, the FAA was a cooperating agency on the FEA.

The FAA has conducted an independent review of the FEA and is adopting the FEA for this action pursuant to 40 CFR 1506.3(a) and (c) and has issued an Adoption of FEA and FONSI/Record of Decision (ROD) dated May 2010. This final rule, which establishes restricted area R-3405, will not result in significant environmental impacts. A copy of the FAA Adoption of FEA and FONSI/ROD has been placed in the public docket for this rulemaking.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.34 [Amended]

2. § 73.34 is amended as follows:

* * * * *

R-3405 Sullivan, IN [New]

Boundaries. Beginning at lat. 39°07′41″ N., long. 87°22′02″ W.; to lat. 39°07′41″ N., long. 87°21′29″ W.; to lat. 39°07′39″ N., long. 87°21′29″ W.; to lat. 39°07′39″ N., long. 87°21′26″ to lat. 39°07′41″ N., long. 87°21′25″ W.; to lat. 39°07′41″ N., long. 87°21′12″ W.; to lat. 39°07′00″ N., long. 87°21′08″ W.; to lat. 39°07′00″ N., long. 87°21′46″ W.; to lat. 39°06′36″ N., long. 87°21′47″ W.; to lat. 39°06′36″ N., long. 87°22′03″ W.; to the point of beginning.

Designated altitudes. Surface up to and including 1,600 feet MSL.

Times of Designation. By NOTAM 24 hours in advance.

Controlling Agency. FAA, Terre Haute ATCT.

Using Agency. U.S. Navy, Naval Support Activity Crane, IN.

Issued in Washington, DC, on July 15, 2010.
Edith V. Parish,
Manager, Airspace and Rules Group.

[FR Doc. 2010-17937 Filed 7-23-10; 8:45 am]

BILLING CODE 4910-13-P